DEPARTMENT OF THE INTERIOR

National Park Service

[NPS-NER-FIIS-18494; PX.P0201786A.00.1]

Notice of Intent To Prepare an Environmental Impact Statement for a Breach Management Plan for Fire Island National Seashore, New York

AGENCY: National Park Service, Interior.

ACTION: Notice of intent.

SUMMARY: The National Park Service (NPS) will prepare an Environmental Impact Statement (EIS) for a Breach Management Plan at Fire Island National Seashore (Seashore), New York. The purpose of the Breach Management Plan is to address issues associated with a breach that developed within the Otis Pike Fire Island High Dune Wilderness at the Seashore. The Breach Management Plan and EIS process is needed to analyze all the feasible alternatives and to make a decision on whether or not to close the breach.

DATES: The public scoping period will commence on the date this notice is published in the Federal Register and last for 30 days.

ADDRESSES: Information will be available for public review online at http://parkplanning.nps.gov/fiis, at Seashore Headquarters, the Fire Island Lighthouse, and the Wilderness Visitor Center. Comments can be submitted via the Internet at http://parkplanning.nps.gov/fiis and by mailing or hand-delivering comments to Fire Island National Seashore, Attn: Breach Management Plan, 120 Laurel St, Patchogue, NY 11772.

FOR FURTHER INFORMATION CONTACT: Elizabeth Rogers (631-687-4766) or Michael Bilecki (631-687-4760)

SUPPLEMENTARY INFORMATION: Pursuant to the National Environmental Policy Act of 1969, 42 U.S.C. 4332(2)(C), the NPS is preparing a Breach Management Plan and EIS to address issues associated with a breach that developed within the Otis Pike Fire Island High Dune Wilderness at the Seashore.

In October 2012, Hurricane Sandy caused two breaches on Fire Island within the boundaries of Fire Island National Seashore (FIIS): (1) within Smith Point County Park (which was subsequently closed by Suffolk County); and (2) within the vicinity of Old Inlet in the only federally designated wilderness in the State of New York.

Since Hurricane Sandy, and in accordance with the 1997 Breach Contingency Plan (BCP) prepared by the U.S. Army Corps of Engineers (USACE), the NPS, US Geological Survey (USGS), USACE, and other coastal experts have been monitoring the breach at Old Inlet and associated water levels and water quality in Great South Bay and breach channel conditions.

The Breach Management Plan and EIS process is needed to analyze all the feasible alternatives and to make a decision on whether or not to close the breach. Actions addressing these issues will be designed and undertaken in support of the long-term protection, preservation, and restoration of Seashore resources. Information collected as part of the breach monitoring program will be utilized in the analysis of alternatives for the Draft Environmental Impact Statement. A scoping newsletter will be prepared which identifies the issues and statements of purpose, need, and objectives identified to date during internal scoping meetings. Copies of that information and other updates may be obtained online at http://parkplanning.nps.gov/fiis or at the address and phone numbers listed below.

If you wish to comment on the purpose, need, objectives, or on any other issues associated with the plan, you may submit your comments via the Internet at http://parkplanning.nps.gov/fiis and by mailing or hand-delivering comments to Fire Island National Seashore, Attn: Breach Management Plan, 120 Laurel St, Patchogue, NY 11772. Before including your address, phone number, email address, or other personal identifying information in your comment, you should be aware that your entire comment—including your personal identifying information—may be made publicly available at any time. While you can ask us in your comment to withhold your personal identifying information from public review, we cannot guarantee that we will be able to do so.

The responsible official for this Draft Breach Management Plan/EIS is the Regional Director, NPS Northeast Region, U.S. Custom House, 200 Chestnut Street, Fifth Floor, Philadelphia, PA 19106.

Dated: August 31, 2015.
Michael A. Caldwell,
Regional Director, Northeast Region, National Park Service.

[FR Doc. 2015-22560 Filed 9-4-15; 8:45 am]

BILLING CODE 4310-WV-P